DEPARTMENT OF HOMELAND SECURITY

Coast Guard

[Docket No. USCG-2025-0293]

Notice of Availability of Navigation and Vessel Inspection Circular 01-16 Change 3—Equivalency Determination for Chart and Publication Carriage Requirements

AGENCY: Coast Guard, DHS.

ACTION: Notice of availability.

SUMMARY: The Coast Guard announces the availability of Navigation and Vessel Inspection Circular (NVIC) 01-16 Change 3. NVIC 01-16 Change 3 clarifies equivalencies for Electronic Navigational Charts (ENC), electronic publications, and ENC-derived paper nautical charts offering alternative compliance options to the current carriage requirements found in existing regulations. NVIC 01-16 Change 3 also provides procedures for conducting inspections for vessels electing to comply with one or more equivalencies as contained in Change 3.

DATES: The NVIC 01-16 Change 3 was issued August 18, 2025.

ADDRESSES: To view the document mentioned in this notice, search the docket number USCG-2025-0293 using the Federal Document Management System at https://www.regulations.gov.

FOR FURTHER INFORMATION CONTACT: For information about this document call or email Mr. Brian Mottel, U.S. Coast Guard, Office of Navigation Systems; telephone 206-267-4657, email David.B.Mottel2@uscg.mil.

SUPPLEMENTARY INFORMATION: NVIC 01-16 Change 3 replaces Change 2 (signed May 21, 2020) and clarifies equivalencies for ENCs, electronic publications, and ENC-derived paper charts using Electronic Chart Systems (ECS). These equivalencies provide alternative compliance options to existing carriage requirements in Titles 33 of the Code of Federal Regulations (CFR) and 46 CFR. Change 3 also outlines inspection procedures for vessels using these equivalencies.

Vessels may use printed charts produced with data from government hydrographic authorities such as the National Oceanic and Atmospheric Administration, U.S. Army Corps of Engineers, river authorities, or foreign governments. See Enclosure (1) of NVIC 01-16 Change 3 for more information.

Vessels may use ENCs that conform to the International Hydrographic Organization's ENC standard and are issued by or authorized by a government hydrographic office. Additionally, ENCs must be displayed on an ECS conforming to Radio Technical Commission for Maritime Services (RTCM) 10900 series standard. See Enclosure (1) of NVIC 01-16 Change 3 for more information.

Publications and rules required by 33 CFR and 46 CFR can be kept in electronic format provided the information is provided by the originating agency. See Enclosure (1) of NVIC 01-16 Change 3, table 2 for more information.

Public Availability of NVIC 01-16 Change 3

NVIC 01-16 Change 3 is available in the docket and on the following Coast Guard website: https://www.dco.uscg.mil/Our-Organization/NVIC/. For instructions on locating the docket, see the ADDRESSES portion of this Federal Register document.

This notice is issued under authority of 5 U.S.C. 552(a).

Dated: August 23, 2025.
W.R. Arguin,
Rear Admiral, U.S. Coast Guard, Assistant Commandant for Prevention Policy.

[FR Doc. 2025-16480 Filed 8-27-25; 8:45 am]

BILLING CODE 9110-04-P